DEPARTMENT OF ENERGY

Federal Energy Regulatory Commission

[Docket No. ER95-112-010, et al.]

Entergy Services, Inc., et al.; Electric Rate and Corporate Regulation Filings

June 26, 2000.

Take notice that the following filings have been made with the Commission:

1. Entergy Services, Inc.

[Docket Nos. ER95-112-010 and ER96-586-005 (consolidated)]

Take notice that on June 19, 2000, Entergy Services, Inc., on behalf of Entergy Arkansas, Inc., Entergy Gulf States, Inc., Entergy Louisiana, Inc., Entergy Mississippi, Inc., and Entergy New Orleans, Inc., (collectively, the “Entergy Operating Companies”) tendered its compliance filing in response to the Commission's orders in Entergy Services, Inc., 85 FERC ¶ 61,163 (1998), reh'g denied, 91 FERC ¶ 61,153 (2000).

Comment date: July 10, 2000, in accordance with Standard Paragraph E at the end of this notice.

2. Koch Energy Trading Inc.

[Docket No. ER95-218-021]

Take notice that on June 21, 2000, Koch Energy Trading Inc. (KET), tendered for filing a notice of change in status, informing the Commission that KET's parent company Koch Energy, Inc. (Koch) has signed an agreement to form a partnership with Entergy Corporation (Entergy) that will own KET. KET also filed a code of conduct in accordance with the Commission's policies regarding transactions between power marketers and their public utility affiliates.

Comment date: July 12, 2000, in accordance with Standard Paragraph E at the end of this notice.

3. Southern Company Services, Inc.

[Docket No. ER00-1655-002]

Take notice that on June 20, 2000, Southern Company Services, Inc. (SCSI), acting as agent for Alabama Power Company, Georgia Power Company, Gulf Power Company, Mississippi Power Company, and Savannah Electric and Power Company submitted for filing a revised Southern Company System Intercompany Interchange Contract in compliance with the Commission's order issued June 15, 2000.

Comment date: July 11, 2000, in accordance with Standard Paragraph E at the end of this notice.

4. Entergy Services, Inc.

[Docket No. ER00-1743-002]

Take notice that on June 19, 2000, Entergy Services, Inc., on behalf of Entergy Corporation and the five Entergy Operating Companies: Entergy Arkansas, Inc., Entergy Gulf States, Inc., Entergy Louisiana, Inc., Entergy Mississippi, Inc., and Entergy New Orleans, Inc. (together “Entergy”), tendered for filing its compliance filing in response to the Commission's May 18, 2000 Order in Entergy Services, Inc., 91 FERC ¶ 61,149 (2000).

Entergy has served a copy of this compliance filing on all persons on the official service list compiled by the Commission.

Comment date: July 10, 2000, in accordance with Standard Paragraph E at the end of this notice.

5. Potomac Electric and Power Company

[Docket No. ER00-2903-000]

Take notice that on June 19, 2000, Potomac Electric and Power Company (PEPCO), tendered for filing executed netting agreements between PEPCO and Southern Company Energy Marketing, L.P., Reliant Energy Services, Inc. and PG&E Energy Trading—Power, L.P. respectively (the Counterparties).

Copies of the filing were served upon the Counterparties.

Comment date: July 12, 2000, in accordance with Standard Paragraph E at the end of this notice.

6. Commonwealth Edison Company

[Docket No. ER00-2904-000]

Take notice that on June 21, 2000, Commonwealth Edison Company (ComEd), tendered for filing an Interconnection Agreement with Indeck Rockford, LLC (Indeck).

ComEd requests an effective date of June 22 2000 and accordingly seeks waiver of the Commission's notice requirements.

Copies of the filing were served on Indeck and the Illinois Commerce Commission.

Comment date: July 12, 2000, in accordance with Standard Paragraph E at the end of this notice.

7. Reliant Energy Shelby County, LP

[Docket No. ER00-2905-000]

Take notice that on June 21, 2000, Reliant Energy Shelby County, LP (Reliant Shelby County), tendered for filing a service agreement establishing Reliant Energy Services, Inc. (RES) as a customer under Reliant Shelby County's market-based rate tariff.

Reliant Shelby County requests an effective date of June 4, 2000 for the service agreement.

Reliant Shelby County states that a copy of the filing was served on RES.

Comment date: July 12, 2000, in accordance with Standard Paragraph E at the end of this notice.

8. PJM Interconnection, L.L.C.

[Docket No. ER00-2906-000]

Take notice that on June 21, 2000, PJM Interconnection, L.L.C. (PJM), tendered for filing an executed interconnection service agreement between PJM and Reliant Energy Services, Inc. (Reliant).

PJM requests a waiver of the Commission's 60-day notice requirement and an effective date of May 12, 2000.

Copies of this filing were served upon Reliant, the Maryland Public Service Commission, the New Jersey Board of Public Utilities, and the Pennsylvania Public Service Commission.

Comment date: July 12, 2000, in accordance with Standard Paragraph E at the end of this notice.

9. Public Service Company of New Mexico

[Docket No. ER00-2907-000]

Take notice that on June 21, 2000, Public Service Company of New Mexico (PNM), tendered for filing two executed service agreements and an executed amendment to one of the agreements, with Texas New Mexico Power Company (TNMP). One agreement is a service agreement dated May 26, 2000, for 6 MW of firm point-to-point transmission service (6 MW Agreement) under the terms of PNM's Open Access Transmission Tariff (OATT). The other agreement is a fully executed Control Area Service Agreement, originally filed (and accepted) as a unilaterally executed agreement, which incorporates specific sections of PNM's OATT. The Amendment included in PNM's filing (dated May 30, 2000) includes modifications to the Control Area Services Agreement necessary to incorporate the 6 MW Agreement into all relevant control area services load and resource descriptions and ancillary services calculations. PNM's filing is available for public inspection at its offices in Albuquerque, New Mexico.

Copies of PNM's filing were provided to TNMP and to the New Mexico Public Regulation Commission.

Comment date: July 12, 2000, in accordance with Standard Paragraph E at the end of this notice.

10. New England Power Pool

[Docket No. ER00-2908-000]

Take notice that on June 21, 2000, the New England Power Pool (NEPOOL) submitted a filing reflecting approval by the NEPOOL Participants of rate treatment for certain actual costs of the Vermont Electric Power Company (VELCO) for deploying on an interim basis a generating unit to operate primarily as a synchronous condenser to enhance system reliability in light of the failure of a phase angle regulator. The arrangements are to remain in effect only for costs incurred through December 2000.

NEPOOL states that copies of these materials were sent to NEPOOL Participants and the six New England state governors and regulatory commissions.

Comment date: July 12, 2000, in accordance with Standard Paragraph E at the end of this notice.

11. Deseret Generation and Transmission Co-operative, Inc.

[Docket No. ER00-2909-000]

Take notice that on June 21, 2000, Deseret Generation & Transmission Co-operative, Inc. (Deseret), tendered for filing the First Amendment to the Power Sales Confirmation Agreement between Deseret and Constellation Power Source, Inc., regarding a long-term power purchase and sale transaction.

Deseret requests an effective date of June 1, 2000.

Comment date: July 12, 2000, in accordance with Standard Paragraph E at the end of this notice.

12. Ogden Martin Systems of Union, Inc.

[Docket No. ER00-2910-000]

Take notice that on June 21, 2000, Ogden Martin Systems of Union, Inc. (Ogden Union), tendered for filing an amendment to Service Agreement No. 1 under Ogden Union's FERC Electric Tariff, Original Volume No. 1 (the Power Sales Agreement by and between Sempra Energy Trading Corp. and Ogden Union).

Comment date: July 12, 2000, in accordance with Standard Paragraph E at the end of this notice.

13. PJM Interconnection, L.L.C.

[Docket No. ER00-2911-000]

Take notice that on June 21, 2000, PJM Interconnection, L.L.C. (PJM), tendered for filing changes to Schedule 9 (Emergency Procedure Charges) of the Amended and Restated Operating Agreement of PJM Interconnection, L.L.C., to conform to Schedule 11 (Emergency Procedure Charges) of the Reliability Agreement Among Load Serving Entities In The PJM Control Area (RAA).

Copies of this filing were served upon all members of PJM and each state electric utility regulatory commission in the PJM control area.

Comment date: July 12, 2000, in accordance with Standard Paragraph E at the end of this notice.

14. Potomac Electric Power Company

[Docket No. ER00-2912-000]

Take notice that on June 21, 2000, Potomac Electric Power Company (PEPCO), tendered for filing a service agreement pursuant to Pepco FERC Electric Tariff, Original Volume No. 5, entered into between Pepco and AMP-Ohio, Inc.

An effective date of June 1, 2000 for this service agreement, with waiver of notice, is requested.

Comment date: July 12, 2000, in accordance with Standard Paragraph E at the end of this notice.

15. Vermont Electric Power Company, Inc.

[Docket No. ER00-2913-000]

Take notice that on June 21, 2000, Vermont Electric Power Company, Inc. (VELCO), tendered for filing a notice pursuant to the Commission's Order issued on May 8, 2000 in the matter of North American Electric Reliability Council, Docket No. ER00-1666-000, stating that: (1) VELCO uses the North American Electric Reliability Council's revised Transmission Loading Relief procedures; and (2) its open access transmission tariff shall be considered so modified.

VELCO requests an effective date of March 1, 2000 for the TLR procedures, and therefore respectfully requests waiver of the Commission's notice requirements.

Comment date: July 12, 2000, in accordance with Standard Paragraph E at the end of this notice.

16. Commonwealth Electric Company

[Docket No. ER00-2914-000]

Take notice that on June 21, 2000, Commonwealth Electric Company (Commonwealth), tendered for filing a firm point-to-point transmission service agreement between Commonwealth and Entergy Nuclear Generating Company (Entergy). Commonwealth states that the service agreement sets out the transmission arrangements under which Commonwealth will provide firm point-to-point transmission service to Entergy under Commonwealth's open access transmission tariff accepted for filing in Docket No. ER97-1341-000, subject to refund and issuance of further orders.

Commonwealth requests waiver of the Commission's thirty (30) day notice requirement in order to allow the service agreement to become effective on July 1, 2000.

Comment date: July 12, 2000, in accordance with Standard Paragraph E at the end of this notice.

17. Panda Paris Power Marketing, L.L.C.

[Docket No. ER00-2916-000]

Take notice that on June 21, 2000, Panda Paris Power Marketing, L.L.C. (Panda Paris), 4100 Spring Valley, Suite 1001, Dallas, Texas 75244, tendered for filing notice that effective June 21, 2000, Rate Schedule FERC No. 1 is to be canceled.

Panda Paris states that it has never entered into any wholesale electric power or energy transactions, and has never utilized its Electric Rate Schedule FERC No. 1.

Comment date: July 12, 2000, in accordance with Standard Paragraph E at the end of this notice.

18. Calvert Cliffs Nuclear Power Plant, Inc.

[Docket No. ER00-2917-000]

Take notice that on June 21, 2000, Calvert Cliffs Nuclear Power Plant, Inc., tendered for filing a notice of succession indicating that the name Calvert Cliffs, Inc., an indirect subsidiary of Constellation Energy Group, has been changed to Calvert Cliffs Nuclear Power Plants, Inc., effective June 21, 2000. In accordance with Sections 35.16 and 131.51 of the Commission's Regulations, 18 CFR 35.16 and 131.51, Calvert Cliffs Nuclear Power Plant, Inc., has adopted and ratified all applicable rate schedules filed with the FERC by Calvert Cliffs, Inc.

Comment date: July 12, 2000, in accordance with Standard Paragraph E at the end of this notice.

19. Constellation Power Source Generation, Inc.

[Docket No. ER00-2918-000]

Take notice that on June 21, 2000, Constellation Power Source Generation, Inc., tendered for filing a notice of succession indicating that the name Constellation Generation, Inc., an indirect subsidiary of wholly owned subsidiary of Constellation Energy Group, has been changed to Constellation Power Source Generation, Inc. effective June 21, 2000. In accordance with Sections 35.16 and 131.51 of the Commission's Regulations, 18 CFR 35.16 and 131.51, Constellation Power Source Generation, Inc. has adopted and ratified all applicable rate schedules filed with the FERC by Constellation Generation, Inc.

Comment date: July 12, 2000, in accordance with Standard Paragraph E at the end of this notice.

20. Madison Gas and Electric Company

[Docket No. ER00-2920-000]

Take notice that on June 21, 2000, Madison Gas and Electric Company (MGE) tendered for filing a service agreement under MGE's Market-Based Power Sales Tariff with Commonwealth Edison Company.

MGE requests this agreement be effective the date the agreement was filed with the FERC.

Comment date: July 12, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-16837 Filed 7-3-00; 8:45 am]

BILLING CODE 6717-01-P